JUDICIAL CONFERENCE OF THE UNITED STATES

Advisory Committees on the Federal Rules of Appellate, Bankruptcy, and Criminal Procedure, and the Federal Rules of Evidence; Hearings on Proposed Amendments to the Appellate, Bankruptcy, Criminal, and Evidence Rules, the Rules Governing Section 2254 Cases in the United States District Courts, and the Rules Governing Section 2255 Proceedings for the United States District Courts

AGENCY: Advisory Committees on the Federal Rules of Appellate, Bankruptcy, and Criminal Procedure, and the Federal Rules of Evidence, Judicial Conference of the United States.

ACTION: Notice of proposed amendments and open hearings.

SUMMARY: The Advisory Committees on Appellate, Bankruptcy, Criminal, and Evidence Rules have proposed amendments to the following rules and forms:

Appellate Rules: 3, 13, 26.1, 28, and 32.

Bankruptcy Rules: 2002, 4001, 6007, 9036, 9037, and Official Form 410.

Criminal Rules: New Criminal Rule 16.1, Rule 5 of the Rules Governing Section 2254 Cases, and Rule 5 of the Rules Governing Section 2255 Proceedings.

Rules of Evidence: 807.

The text of the proposed rules and form and the accompanying Committee Notes are posted on the Judiciary's Web site at: http://www.uscourts.gov/rules-policies/proposed-amendments-published-public-comment.

All written comments and suggestions with respect to the proposed amendments may be submitted on or after the opening of the period for public comment on August 15, 2017, but no later than February 15, 2018. Written comments must be submitted electronically, following the instructions provided on the Web site. All comments submitted will be posted on the Web site and available to the public.

Public hearings are scheduled on the proposed amendments as follows:

• Appellate Rules in Washington, DC, on November 9, 2017, and in Phoenix, Arizona, on January 5, 2018;

• Bankruptcy Rules in Washington, DC, on January 17, 2018, and in Pasadena, California, on January 30, 2018;

• Criminal Rules in Chicago, Illinois, on October 24, 2017, and in Phoenix, Arizona, on January 5, 2018; and

• Evidence Rules in Boston, Massachusetts, on October 27, 2017, and in Phoenix, Arizona, on January 5, 2018.

Those wishing to testify must contact the Secretary by email at: Rules_Support@ao.uscourts.gov, with a copy mailed to the address below, at least 30 days before the hearing.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: August 7, 2017.
Rebecca A. Womeldorf,
Secretary, Committee on Rules of Practice and Procedure, Judicial Conference of the United States.

[FR Doc. 2017-16916 Filed 8-10-17; 8:45 am]

BILLING CODE 2210-55-P